FEDERAL MARITIME COMMISSION

Ocean Transportation Intermediary License; Applicants

Notice is hereby given that the following applicants have filed with the Federal Maritime Commission an application for a license as a Non-Vessel-Operating Common Carrier (NVO) and/or Ocean Freight Forwarder (OFF)—Ocean Transportation Intermediary (OTI) pursuant to section 19 of the Shipping Act of 1984 as amended (46 U.S.C. Chapter 409 and 46 CFR 515). Notice is also hereby given of the filing of applications to amend an existing OTI license or the Qualifying Individual (QI) for a license.

Interested persons may contact the Office of Transportation Intermediaries, Federal Maritime Commission, Washington, DC 20573, by telephone at (202) 523-5843 or by email at OTI@fmc.gov.

4 A's Cargo, Inc. (NVO), 1210 E. 223rd Street, #321, Carson, CA 90745. Officers: Rolando Tanaleon, President (Qualifying Individual). Adhara Tanaleon, CFO. Application Type: QI Change.

AC Shipping LLC (NVO), 34 Albert Avenue, Newark, NJ 07105. Officers: Alexander Yanushko, President/Managing Member (Qualifying Individual). Viktoriya A. Midova, Officer/Active Member. Application Type: New NVO License.

Alliance Cargo System Inc. (NVO), 31 Barclay Circle, Staten Island, NY 10312. Officer: Gregory Ly, President/Treasurer/Secretary (Qualifying Individual). Application Type: New NVO License.

American Patriot Lines, Inc. dba Tier One Logistics (NVO), 8616 La Tijera Boulevard, #401, Los Angeles, CA 90045. Officer:Dong Ho Lee, President/Secretary/Treasurer (Qualifying Individual). Application Type: QI Change and Trade Name Change.

ASF Global, LLC (NVO & OFF), 3812 Springhill Avenue, Mobile, AL 36608. Officer: Samford T. Myers, Manager (Qualifying Individual). Application Type: New NVO & OFF License.

Bluesea Logistics Corporation (NVO), 327 Elizabeth Avenue, Apt. #A, Monterey Park, CA 91755-2044. Officers: Chao Sun, General Manager (Qualifying Individual). Guanghui Cui, President. Application Type: New NVO License.

Broom U.S.A., Inc. dba Transcontinental Logistics Neutral 3PL (NVO & OFF), 2193 NW. 82nd Avenue, Miami, FL 33122. Officers: Julian A. Scattolini, Vice President/Director/Secretary (Qualifying Individual). Hector A. Espinoza, President. Application Type: New NVO & OFF License.

C.O. Logistic LLC dba C.O. Logistic (NVO & OFF), 3711 Country Club Drive, #6, Long Beach, CA 90807. Officers: Pavao Sosic, Operations Manager (Qualifying Individual). Silvija Sosic, Chief Operating Officer. Application Type: Business Structure Change.

Chronos International Cargo Corp. dba AOC Log—Air Ocean Chronos Logistics (NVO & OFF), 1925 NW. 79th Avenue, Doral, FL 33126. Officers: Paula Almeida, Vice President (Qualifying Individual). Fernando Silva, President. Application Type: New NVO & OFF License.

Contrans Cargo Inc. (NVO), 14181 Uxbridge Street, Westminster, CA 92683. Officers: Ping (aka Alice) H. Hsiao, Vice President (Qualifying Individual). Xiaojun Wang, President. Application Type: New NVO License.

Dsecargonet USA, Inc. (NVO), 3625 Del Amo Blvd., #275, Torrance, CA 90503. Officers: Jae Man Lim, Secretary (Qualifying Individual). Myung K. Chai, President/CEO. Application Type: QI Change.

East Coast Shipping Inc. (NVO), 631 Cypress Lake Blvd., #F, Pompano Beach, FL 33064. Officer: Neide F. Perozin, President/Secretary (Qualifying Individual). Application Type: License Transfer.

ECV Shipping Line, Inc. (NVO & OFF), 3132 SW. 173rd Terrace, Miramar, FL 33029. Officers: Carmen E. Vizcaino, President/Treasurer (Qualifying Individual). Jennette Vizcaino, Secretary. Application Type: New NVO & OFF License.

Enterprise Forwarders, Inc. (OFF), 8555 NW. 29th Street, 2nd Floor, Doral, FL 33122. Officer: Elizabeth V. Roque, President/Vice President/Secretary/Treasurer (Qualifying Individual). Application Type: New OFF License.

EP America Inc. dba Rubik (EP America) Inc. (NVO & OFF), 3340-A Greens Road, Suite 150, Houston, TX 77032. Officers: Ronald A. McGraw, Secretary (Qualifying Individual). Jose M. Garza, President. Application Type: New NVO & OFF License.

Esko, Inc. (NVO), 19008 Herb Court, Rowland Heights, CA 91748. Officers: Lin L. Chen, Vice President (Qualifying Individual). Han W. Chang, President/Secretary/Treasurer. Application Type: New NVO License.

Forest City Ocean Freight LLC (OFF), 8615 E. Lindgren Road, Spokane, WA 99217. Officers: Mark A. Donavan, Member Board of Managers (Qualifying Individual). David A. Duer, Member Board of Managers. Application Type: New OFF License.

Global Pro Logistics LLC (NVO & OFF), 22750 Hawthorne Boulevard, #200, Torrance, CA 90505. Officers: Emily Chen, President (Qualifying Individual). Chun-Yi Lin, Member. Application Type: New NVO & OFF License.

Global Tradewinds NVOCC, Inc. (NVO), 3532 Katella Avenue, #227, Los Alamitos, CA 90720. Officers: Fiona M. Hooks, President/CFO (Qualifying Individual). Ronald Mundwiller, Secretary. Application Type: New NVO License.

GlobeEx Freight Systems Inc. (NVO), 6720 Davand Drive, Unit 3, Mississauga, L5T2K7 Canada. Officers: Bhupender Singh, President/Director (Qualifying Individual). Sree V. Sarma, Director. Application Type: New NVO License.

Gulf Premier Logistics LLC (OFF), 340 N. Sam Houston Parkway E, #217, Houston, TX 77060. Officers: Dee Chase-Unno, Vice President of Operations (Qualifying Individual). Jason Lancaster, CEO. Application Type: New OFF License.

Harbour International, Incorporated (NVO & OFF), 30 Shumway Avenue, #2E, Batavia, IL 60510. Officers: Adriana M. Rodriguez, Vice President (Qualifying Individual). Robert C. Masterson, President. Application Type: QI Change.

High Export Inc. (NVO), 10825 NW. 33rd Street, Doral, FL 33172. Officers: Claudia Y. Gomez, President/Treasurer (Qualifying Individual). Andres Gomez, Vice President/Secretary. Application Type: New NVO License.

IJS Global Inc. (OFF), 2600 Main Street Ext., 2nd Floor, Sayreville, NJ 08872. Officers: Tina J. Okragly, Vice President/Secretary (Qualifying Individual). Dennis Dolan, CEO, North America. Application Type: QI Change.

ILE Global, LLC (OFF), 181 S. Franklin Avenue, Suite 601, Valley Stream, NY 11581. Officers: Angel Velez, Vice President (Qualifying Individual). Orit Horn, Managing Member. Application Type: New OFF License.

J N B USA Logistics, Inc. (NVO), 31 Blake Avenue, Lynbrook, NY 11563. Officer: Chin Ho Ree, President/Vice President/Secretary/Treasurer (Qualifying Individual). Application Type: License Transfer.

JK International, Inc. (NVO & OFF), 825 S. Graham Street, Memphis, TN 38111. Officers: Teresa Donaldson, Secretary (Qualifying Individual). James Kim, President/CEO. Application Type: New NVO & OFF License.

Leeward USA, Inc. (NVO & OFF), 350 Fifth Avenue, #2600, New York, NY 10118. Officers: Nancy D. Heller, Vice President of Operations (Qualifying Individual). Juan M. Ferrera, President. Application Type: New NVO & OFF License.

Liberty Relocation International, Inc. (NVO), 18375 Ventura Blvd., Suite #113, Tarzana, CA 91356. Officer: Ron Ratoviz, President/Vice President/Secretary/CFO (Qualifying Individual). Application Type: New NVO License.

LLS Team USA Incorporated (NVO), 1550 E. Higgins Road, Suite 133, Elk Grove Village, IL 60007. Officers: Oliver Brand, President/Director (Qualifying Individual). Helmut Sruala, Director. Application Type: New NVO License.

MH Transport, LLC dba MH Carriers (NVO & OFF), 3340 Greens Road, B400, Houston, TX 77032. Officers: Thomas L. Armel, Vice President (Qualifying Individual). Olivia De Caro, President. Application Type: Add NVO Service.

Norton Lilly Logistics, LLC (NVO & OFF), One St. Louis Centre, Suite 5000, Mobile, AL 36602. Officers: Steven A. Haverstock, President (Qualifying Individual). Kevin L. Filliater, Vice President. Application Type: QI Change.

NS Cargo, Inc. (OFF), 2000 NW 84 Avenue, #218, Miami, FL 33122. Officers: Nelson A. Sanlley, President (Qualifying Individual). Glorialba Sanlley, Secretary. Application Type: New OFF License.

NW Forwarding, LLC (NVO & OFF), 618 S 223rd Street, #3, Des Moines, WA 98198. Officer: Bruce R. Harris, Member (Qualifying Individual). Application Type: New NVO & OFF License.

Oceanpar Logistix LLC (NVO & OFF), 2 Van Buren Drive, Edison, NJ 08817. Officer: Jitendra P. Shah, Member/President/Secretary/Treasurer (Qualifying Individual). Application Type: New NVO & OFF License.

Oriental Logistics Group Inc. (NVO), 141-16 28 Avenue, Apt# 6B, Flushing, NY 11354. Officers: Cheng (aka Michael) H. Hu, Secretary (Qualifying Individual). Ju-Hsueh Wu, President. Application Type: New NVO License.

Overland Logistics LLC (OFF), 850 North 200 East, Ephraim, UT 84627. Officers: Kyle S. Bailey, Vice President of Logistics (Qualifying Individual). Thomas F. Bailey, President. Application Type: New OFF License.

Overseas Shipping Inc. (NVO & OFF), 2313 Providence Street, Falls Church, VA 22043. Officer: Rima R. Hossain, Owner (Qualifying Individual). Application Type: New NVO & OFF License.

Reliable Shipping Agency, LLC (NVO), 7710 Brooklyn Boulevard North, #211, Brooklyn Park, MN 55443. Officers: George M. Segbee, Operations Manager (Qualifying Individual). Christian K. Kolleh, Chief Executive Manager. Application Type: New NVO License.

Seaway International Inc. (NVO), 350 7th Avenue, #502, New York, NY 10001. Officer: Daniel Chin Kim, President (Qualifying Individual). Application Type: Name Change.

SecureGlobal Logistics, Inc. (NVO & OFF), 1045 Greens Parkway, Houston, TX 77067. Officers: Michael J. Middleton, CEO/President (Qualifying Individual). Rick Kerbo, Vice President of Corporate Affairs. Application Type: QI Change.

Sims, Waters & Associates, Inc. dba Sunshine Global Transport (NVO & OFF), 1750 East Duval Street, Jacksonville, FL 32202. Officers: Myra H. Sims, Vice President/Secretary (Qualifying Individual). Betty J. Waters, President/Treasurer. Application Type: Add NVO Service.

The Pasha Group dba Pasha Distribution Services; dba Pasha Freight; dba CTC Transportation; dba Pasha International; dba Asiatic Trans-Pacific (NVO & OFF), 5725 Paradise Drive, #1000, Corte Madera, CA 94925. Officers: George W. Pasha, IV, Vice President (Qualifying Individual). George W. Pasha, III, Director/COB. Application Type: Trade Name Change.

Three Oceans Transport Inc. (NVO & OFF), 8903 Regents Park Drive, #130, Tampa, FL 33647. Officers: Rasmus H. Okland, Vice President (Qualifying Individual). Graham Bott, President/Director. Application Type: QI Change.

Trinity Shipping Company (NVO), 1519 Landalee Drive, Wilmington, NC 28405. Officers: Glen E. Jones, President (Qualifying Individual). Judith M. Jones, Vice President. Application Type: New NVO License.

Thunderbird Logistic, Inc. (NVO & OFF), 7735 E. Redfield Road, Suite 100, Scottsdale, AZ 85260. Officer: Xinyang K. Chen, President/Secretary. Application Type: QI Change.

UBA Express Cargo, Corp. (NVO), 10406 SW 7th Street, Miami, FL 33174. Officer: Martha E. Rivas, President/Secretary/Treasurer (Qualifying Individual). Application Type: New NVO License.

Worldwide Relocation Specialists, Inc. (OFF), 43460 Ridge Park Drive, Ste. 260, Temecula, CA 92590. Officers: Lisette A. Shire, President/CEO/Secretary (Qualifying Individual). Michael H. Shire, Treasurer/CFO. Application Type: New OFF License.

Zix Corporation dba Zix Maritime (NVO & OFF), 2355 Salzedo Street, #315, Coral Gables, FL 33134. Officers: Manuel Zarate, Vice President (Qualifying Individual). Andres Zarate, President. Application Type: ADD NVO Service.

Dated: March 23, 2012.
Karen V. Gregory,
Secretary.

[FR Doc. 2012-7460 Filed 3-27-12; 8:45 am]

BILLING CODE 6730-01-P